DEPARTMENT OF HEALTH AND HUMAN SERVICES

National Institutes of Health

National Institute of Allergy and Infectious Diseases; Amended Notice of Meeting

Notice is hereby given of a change in the meeting of the National Institute of Allergy and Infectious Diseases Special Emphasis Panel, March 02, 2016, 10:00 a.m. to March 02, 2016, 01:00 p.m., National Institutes of Health, 5601 Fishers Lane, Rockville, MD, 20892 which was published in the Federal Register on February 09, 2016, 81FR6872.

This notice is being amended to change the date of the meeting from March 02, 2016 to March 16, 2016; and to change the start time from 10:00 a.m. to 1:00 p.m. and the end time from 4:00 p.m. to 6:00 p.m. The meeting is closed to the public.

Dated: February 26, 2016.
Natasha M. Copeland,
Program Analyst, Office of Federal Advisory Committee Policy.

[FR Doc. 2016-04628 Filed 3-2-16; 8:45 am]

BILLING CODE 4140-01-P